DEPARTMENT OF THE INTERIOR

Bureau of Land Management

[CO-820-02-5440-DT-C028]

Notice of Availability of Record of Decision for the San Juan/San Miguel Resource Management Plan (RMP) Amendment and Environmental Impact Statement (EIS)

AGENCY: Bureau of Land Management, Interior.

ACTION: Notice of availability of Record of Decision (ROD).

SUMMARY: In accordance with the National Environmental Policy Act (NEPA), the Federal Land Policy and Management Act (FLPMA), and the Bureau of Land Management (BLM) management policies, the BLM announces the availability of the RMP Amendment/ROD for the Silverton Outdoor Learning and Recreation Center (SOLRC). The SOLRC planning area is located in the San Juan/San Miguel Resource Area near Silverton, Colorado. The SOLCR RMP Amendment/ROD amends the San Juan/San Miguel RMP. The Colorado State Director will sign the SOLRC RMP Amendment/ROD, which becomes effective immediately.

ADDRESSES: Copies of the SOLRC RMP Amendment/ROD are available upon request from the Field Manager, Columbine Field office, Bureau of Land Management, 367 Pearl Street, Bayfield, Colorado (81122) or via the Internet at http://www.co.blm.gov/sjra. Copies may also be obtained by calling Richard Speegle, Project Manager, at 970-375-3310. Copies will also be available at the following local libraries:

Silverton Public Library, 1111 Reese Street, Silverton, Colorado (81433).

Durango Public Library, 1188 2nd Ave, Durango, Colorado (81301).

FOR FURTHER INFORMATION CONTACT: Richard Speegle, Project Manager, at 970-375-3310, (or e-mail at richard_speegle@blm.gov), San Juan Public Lands Center, 15 Burnett Ct., Durango, Colorado, 81301.

SUPPLEMENTARY INFORMATION: The SOLCR RMP Amendment/ROD was developed with broad public participation through a three year planning process. This RMP Amendment/ROD addresses management on approximately 1,300 acres of BLM lands, and 400 acres of private lands owned by the proponent. The ROD only applies to Federal lands. Other private lands are included within the planning area boundary because these lands are interspersed with the BLM managed lands. The issues of public safety, Canada lynx impacts, impacts on the local winter economy, impacts to neighboring private lands, public access and other related issues are addressed in the ROD.

The SOLRC EIS considered the environmental impacts associated with both the land use plan amendment (to add lift-served skiing and sightseeing to the list of allowable (kinds and levels of recreation) authorized on BLM-administered public lands specific to the SOLRC permit area within the Silverton Special Recreation Management Area (SRMA)), and the issuance of a lease to SOLRC to authorize a public ski area. The SOLRC RMP Amendment/ROD approves the land use plan amendment and allows the BLM to move forward with an implementation decision to issue the lease.

The SOLRC RMP Amendment/ROD is essentially the same as the Proposed RMP Amendment (PRMPA)/Final EIS (FEIS) published on August 6, 2004. BLM received two protests to the PRMPA/FEIS. No inconsistencies with the State or local plans, policies, or programs were identified during the Governor's consistency review of the PRMPA/FEIS. As a result, only one minor editorial modification was made in preparing the SOLCR RMP Amendment/ROD. This modification corrected an error that was noted during the protest period. An errata sheet is included with the SOLRC RMP Amendment/ROD that identifies the location of the corrections in the PRMPA/FEIS.

Pauline Ellis,
Columbine Field Office Manager.

[FR Doc. 05-19834 Filed 10-3-05; 8:45 am]

BILLING CODE 4310-JB-P